DEPARTMENT OF HOUSING AND URBAN DEVELOPMENT

[Docket No. FR-5376—N-47]

Notice of Submission of Proposed Information Collection to OMB; Emergency Comment Request; Conversion of Efficiencies Units to One Bedroom Units Multifamily Housing Package; Notice of Proposed Information Collection for Public Comment

AGENCY: Office of the Chief Information Officer.

ACTION: Notice of proposed information collection.

SUMMARY: The proposed information collection requirement described below has been submitted to the Office of Management and Budget (OMB) for emergency review and approval, as required by the Paperwork Reduction Act. The Department is soliciting public comments on the subject proposal.

DATES: Comments Due Date: June 17, 2010.

ADDRESSES: Interested persons are invited to submit comments regarding this proposal. Comments must be received within seven (14) days from the date of this Notice. Comments should refer to the proposal by name/or OMB approval number) and should be sent to: HUD Desk Officer, Office of Management and Budget, New Executive Office Building, Washington, DC 20503; e-mail: OIRA_Submission@eop.omb.gov; fax: 202-395-6974.

FOR FURTHER INFORMATION CONTACT: Leroy McKinney Jr., Reports Management Officer, QDAM, Department of Housing and Urban Development, 451 Seventh Street, SW., Washington, DC 20410; e-mail Leroy.MckinneyJR@HUD.gov; telephone (202) 402-2374. This is not a toll-free number. Copies of available documents submitted to OMB may be obtained from Maurice Champagne.

SUPPLEMENTARY INFORMATION: This Notice informs the public that the U.S. Department of Housing and Urban Development (HUD) has submitted to OMB, for emergency processing, an information collection package with respect to this information is collected from owners seeking to convert efficiency units into one bedroom units in certain types of HUD assisted and/or insured housing. The Department has developed standards and requirements via Housing Notice and attached forms to permit the conversion of efficiencies to one-bedrooms provided it can be demonstrated that the conversion is warranted by local demands and results in the long-term financial and physical repositioning of the project. This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Conversion of Efficiencies Units to One Bedroom Units Multifamily Housing Package.

Description of Information Collection: The Department has received requests from owners of assisted housing to convert efficiencies to one-bedroom units. The Department has developed policies and procedures to permit the conversion of efficiencies to one-bedroom units provided it can be demonstrated that the conversion is warranted by local market demands for affordable housing and results in the long-term financial and physical repositioning of the project. The information collected as part of the submission, will be utilized by the Department to ensure that all programmatic requirements contained in the Housing Notice and the submission requirements have been satisfied.

OMB Control Number: 2502-Pending.

Agency Form Numbers: HUD-9647, HUD-92030, HUD-92030-I, HUD-92031-IRP, HUD-92032, HUD-92033 and HUD-92040.

Members of Affected Public: Not-for-profit institutions, State, Local or Tribal Government.

Estimation of the total numbers of hours needed to prepare the information collection including number of respondents, frequency of responses, and hours of response: The number of burden hours is 23,578. The number of respondents is 0.500, the number of responses is 125, the frequency of response is once per submission, and the burden hour per response is 147,375.

Status of the proposed information collection: This is a New collection.

Authority: The Paperwork Reduction Act of 1995, 44 U.S.C. Chapter 35, as amended.

Dated: May 27, 2010.
Leroy McKinney Jr.,
Departmental Reports Management Officer, Office of the Chief Information Officer.

[FR Doc. 2010-13344 Filed 6-2-10; 8:45 am]

BILLING CODE 4210-67-P